DEPARTMENT OF HOUSING AND URBAN DEVELOPMENT

[Docket No. FR-5477-N-50]

Federal Property Suitable as Facilities to Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 708-1234; TTY number for the hearing- and speech-impaired (202) 708-2565 (these telephone numbers are not toll-free), or call the toll-free Title V information line at (800) 927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-(800) 927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Air Force: Mr. Robert Moore, Air Force Real Property Agency, 143 Billy Mitchell Blvd., San Antonio, TX 78226, (210) 925-3047 Army: Ms. Veronica Rines, Department of the Army, Office of the Assistant Chief of Staff for Installation Management, +-DAIM-ZS, Room 8536, 2511 Jefferson Davis Hwy, Arlington, VA 22202: (571) 256-8145; Coast Guard: Commandant, United States Coast Guard, Attn: Jennifer Stomber, 2100 Second St., SW., Stop 7901, Washington, DC 20593-0001; (202) 475-5609; COE: Mr. Scott Whiteford, Army Corps of Engineers, Real Estate, CEMP-CR, 441 G Street, NW., Washington, DC 20314; (202) 761-5542; Energy: Mr. Mark Price, Department of Energy, Office of Engineering & Construction Management, MA-50, 1000 Independence Ave, SW., Washington, DC 20585: (202) 586-5422; GSA: Mr. Gordon Creed, Acting Deputy Assistant Commissioner, General Services Administration, Office of Property Disposal, 18th & F Streets, NW., Washington, DC 20405; (202) 501-0084; Interior: Mr. Michael Wright, Acquisition & Property Management, Department of the Interior, 1801 Pennsylvania Ave., NW., 4th Floor, Washington, DC 20006: (202) 254-5522; Navy: Mr. Albert Johnson, Department of the Navy, Asset Management Division, Naval Facilities Engineering Command, Washington Navy Yard, 1330 Patterson Ave., SW., Suite 1000, Washington, DC 20374; (202) 685-9305 (These are not toll-free numbers).

Dated: December 8, 2011.
Mark R. Johnston,
Deputy Assistant Secretary for Special Needs.

TITLE V, FEDERAL SURPLUS PROPERTY PROGRAM FEDERAL REGISTER REPORT FOR 12/16/2011

Suitable/Available Properties

Building

Alabama

Bldg. 8004

Redstone Arsenal

Redstone Arsenal AL 35898

Landholding Agency: Army

Property Number: 21201140050

Status: Unutilized

Comments: off-site removal only; 430 sq. ft.; current use: explosive testing; needs extensive repairs; possible asbestos and lead base paint

10 Bldgs.

Redstone Arsenal

Redstone Arsenal AL 35898

Landholding Agency: Army

Property Number: 21201140053

Status: Unutilized

Directions: 1402, 1402A, 1403, 1403A, 1404, 1404A, 1405, 1405A, 1406, 1406A

Comments: off-site removal only; possible asbestos and lead base paint; sq. ft. varies; extensive repairs needed; current use: military housing

Suitable/Available Properties

Building

Arkansas

8 Bldgs.

Pine Bluff Arsenal

Pine Bluff AR 71602

Landholding Agency: Army

Property Number: 21201140055

Status: Unutilized

Directions: 57240, 57230, 57210, 57160, 57150, 57120, 5743, 5739

Comments: off-site removal only; sq. ft. varies; current use: lab/test bldg.

Bldg. 57260

Pine Bluff Arsenal

Pine Bluff AR 71602

Landholding Agency: Army

Property Number: 21201140057

Status: Unutilized

Comments: off-site removal only; 9,474 sq. ft.; current use: CHM EQ/MAT Bldg.

Suitable/Available Properties

Building

California

Bldg. 5435

Davis Ave.

Barksdale CA 71101

Landholding Agency: Air Force

Property Number: 18201140041

Status: Underutilized

Comments: off-site removal only; 3,024 sq. ft.; current use: bank; need repairs

COLORADO

Bldg. 1425 and 143

Peterson AFB

Colorado Springs CO 80914

Landholding Agency: Air Force

Property Number: 18201140024

Status: Unutilized

Comments: off-site removal only; 1425-64,254 sq. ft.; 143-100 sq. ft.; current use: storage to base exchange; need repairs; possible asbestos

Suitable/Available Properties

Building

Colorado

AF Academy

8010 Sage Brush Dr.

USAF Academy CO 80840

Landholding Agency: Air Force

Property Number: 18201140026

Status: Unutilized

Comments: 2,670 sq. ft.; current use: unknown; 2007 Nat'l Register of Historic Places; fair conditions; possible asbestos

Kentucky

18 Bldgs.

Ft. Knox

Ft. Knox KY 40121

Landholding Agency: Army

Property Number: 21201140032

Status: Unutilized

Directions: 51, 52, 70, 73, 74, 76, 2961, 2963, 2964, 2969, 2970, 2971, 2972, 2973, 2974, 2975, 2979, 2316

Comments: off-site removal only; possible asbestos, mold, and lead base paint; sq. ft. varies; current use: office

Suitable/Available Properties

Building

Kentucky

12 Bldgs.

Ft. Knox

Ft. Knox KY 40121

Landholding Agency: Army

Property Number: 21201140033

Status: Unutilized

Directions: 77, 78, 80, 81, 85, 86, 92, 94, 96, 9248, 2995, 2996

Comments: off-site removal only; possible mold, asbestos, and lead base paint; sq. ft. varies; current use: office to storage

Maryland

4 Bldgs.

Naval Support Activity S. Potomac

Indian Head MD 20640

Landholding Agency: Navy

Property Number: 77201140016

Status: Excess

Directions: 696B, 745, 827, 945

Comments: off-site removal; need inspection for explosive contaminations; need repairs; possible lead based paint and asbestos; possible trigger disturbance of protected species and impact to coastal resources

Suitable/Available Properties

Building

Nebraska

Bldg. 5087

Capehart Housing Area

Offutt NE 68113

Landholding Agency: Air Force

Property Number: 18201140027

Status: Excess

Comments: 25LF-wide, 14LF-height, 30LF-length; current use: exchange store; good to fair condition

TEXAS

Band Center

Lackland

San Antonio TX

Landholding Agency: Air Force

Property Number: 18201140038

Status: Unutilized

Comments: off-site removal only; 15,669 sq. ft.; current use: band center; need repairs

Suitable/Available Properties

Land

Nevada

RBG Water Project Site

Bureau of Reclamation

Henderson NV 89011

Landholding Agency: GSA

Property Number: 54201140004

Status: Surplus

GSA Number: 9-I-AZ-0562

Comments: water easement (will not impact conveyance); 22+/-acres; current use: water sludge disposal site; lead from shotgun shells on <1 acre.

Unsuitable Properties

Building

Alabama

2 Bldgs.

Redstone Arsenal

Redstone Arsenal AL 35898

Landholding Agency: Army

Property Number: 21201140051

Status: Unutilized

Directions: 7850 and 8002

Comments: no potential to meet criteria- not economically feasible

Reasons: Extensive deterioration

Unsuitable Properties

Building

Alabama

19 Bldgs.

Redstone Arsenal

Redstone Arsenal AL 35898

Landholding Agency: Army

Property Number: 21201140052

Status: Unutilized

Directions: 3204, 3206, 3207, 3208, 3216, 3218, 3231, 3467, 3478, 3479, 3483, 5447, 5448, 5457, 7368B, 7373, 7374, 7384, 7600

Comments: no potential to meet criteria- not economically feasible

Reasons: Extensive deterioration

California

Fresno Yosemite Intern'l ANG

5323 E. McKinley Ave.

Fresno CA 93727

Landholding Agency: Air Force

Property Number: 18201140001

Status: Underutilized

Reasons: Secured Area

Unsuitable Properties

Building

California

17 Bldgs.

Edwards AFB

Edwards CA 93524

Landholding Agency: Air Force

Property Number: 18201140008

Status: Unutilized

Directions: 8799, 8814, 8822, 8824, 8832, 9588, 9635, 4258, 4260, 304, 1865, 2585, 3501, 3512, 3523, 3735, 3742

Reasons: Extensive deterioration, Secured Area, Within airport runway clear zone

19 Bldgs.

Edwards AFB

Edwards CA 93524

Landholding Agency: Air Force

Property Number: 18201140019

Status: Unutilized

Directions: 4271, 4261, 4264, 4267, 4268, 4272, 4273, 4274, 4280, 4281, 4402, 4904, 4953, 4962, 8668, 8701, 4241, 4242, 4243

Reasons: Within 2000 ft. of flammable or explosive material, Secured Area, Extensive deterioration

10 Bldgs.

Edwards AFB

Edwards CA 93524

Landholding Agency: Air Force

Property Number: 18201140020

Status: Unutilized

Directions: 4244, 4245, 4246, 4247, 4252, 4255, 4254, 4248, 4256, 4257

Reasons: Extensive deterioration, Secured Area, Within 2000 ft. of flammable or explosive material

Unsuitable Properties

Building

California

Bldg. 283

483 N. Aviation Blvd.

El Segundo CA 90292

Landholding Agency: Air Force

Property Number: 18201140025

Status: Underutilized

Reasons: Secured Area, Extensive deterioration

38 Bldgs.

Cape Military Family Houses

Beale CA 95309

Landholding Agency: Air Force

Property Number: 18201140034

Status: Unutilized

Directions: 3945, 4097, 4126, 4138, 4141, 4156, 4160, 4300, 4334, 4350, 4352, 4374, 4346, 4379, 4381, 4394, 4396, 4406, 4408, 4591, 4593, 4594, 4596, 4599, 4601, 4602, 4604, 4623, 4625, 4630, 4631, 4632, 4633, 4634, 4645, 4647, 4648, 4649

Reasons: Extensive deterioration

27 Bldgs.

Cape Military Family Houses

Beale CA 95309

Landholding Agency: Air Force

Property Number: 18201140035

Status: Unutilized

Directions: 4650, 4651, 4653, 4656, 4658, 4667, 4669, 4672, 4674, 4676, 4678, 4696, 4698, 4704, 4707, 4712, 4714, 4720, 4721, 4722, 4723, 4728, 4730, 4736, 4738, 4756, 4758

Reasons: Extensive deterioration

Unsuitable Properties

Building

California

Bldg. 1359

Davis Ave.

Barkdale CA 71101

Landholding Agency: Air Force

Property Number: 18201140040

Status: Underutilized

Comments: Beyond repair

Reasons: Secured Area, within airport runway clear zone, Extensive deterioration

7 Bldgs.

Cape Military Family Houses

Beale CA 95309

Landholding Agency: Air Force

Property Number: 18201140051

Status: Unutilized

Directions: 3119, 3121, 3123, 3125, 3126, 3127, 3128

Reasons: Extensive deterioration

26 Bldgs.

Cape Military Family Houses

Beale CA 95309

Landholding Agency: Air Force

Property Number: 18201140052

Status: Unutilized

Directions: 5220A, 5220B, 5232A, 5232B, 5235A, 5235B, 5274A, 5247B, 5256A, 5256B, 5269A, 5269B, 5271A, 5271B, 5275A, 5275B, 5283A, 5283B, 5285A, 5285B, 5288A, 5288B, 5292A, 5292A, 5216A, 5296B

Reasons: Extensive deterioration

Unsuitable Properties

Building

California

Bldg. 2110

Fitzgerald Blvd.

Edwards CA 83524

Landholding Agency: Air Force

Property Number: 18201140053

Status: Underutilized

Reasons: Within airport runway clear zone, Secured Area

Bldg. 2111

107 Fitzgerald Blvd.

Edwards CA 93524

Landholding Agency: Air Force

Property Number: 18201140054

Status: Underutilized

Reasons: Secured Area, Within airport runway clear zone

4 Bldgs.

Payne Ave.

Edwards CA

Landholding Agency: Air Force

Property Number: 18201140055

Status: Unutilized

Directions: 7197, 7198, 7199, 7200

Reasons: Within 2000 ft. of flammable or explosive material, Secured Area, Extensive deterioration

Unsuitable Properties

Building

California

Bldg. 12

Jones Road

Edwards CA 93524

Landholding Agency: Air Force

Property Number: 18201140056

Status: Underutilized

Reasons: Secured Area, Within airport runway clear zone

Bldgs. 7206 and 7208

Payne Ave.

Edwards CA 93524

Landholding Agency: Air Force

Property Number: 18201140057

Status: Unutilized

Reasons: Extensive deterioration, Secured Area, Within 2000 ft. of flammable or explosive material

4 Bldgs.

Payne Ave.

Edwards CA 93524

Landholding Agency: Air Force

Property Number: 18201140058

Status: Unutilized

Directions: 7202, 7203, 7204, 7205

Reasons: Within 2000 ft. of flammable or explosive material, Secured Area, Extensive deterioration

Unsuitable Properties

Building

California

4 Bldgs.

Payne Ave

Edwards CA 93524

Landholding Agency: Air Force

Property Number: 18201140059

Status: Unutilized

Directions: 7193, 7194, 7195, 7196

Reasons: Extensive deterioration, Within 2000 ft. of flammable or explosive material, Secured Area

Bldgs. 7177 and 7197

401 and 405 14th Street

Edwards CA 93524

Landholding Agency: Air Force

Property Number: 18201140060

Status: Unutilized

Reasons: Secured Area, Extensive deterioration, Within 2000 ft. of flammable or explosive material

Bldgs. 7176 and 7178

400 and 404 13th St.

Edwards CA 93524

Landholding Agency: Air Force

Property Number: 18201140061

Status: Underutilized

Reasons: Within airport runway clear zone, Secured Area, Extensive deterioration

Unsuitable Properties

Building

California

Bldg. 2425

215 Spiro Ave.

Edwards CA 93524

Landholding Agency: Air Force

Property Number: 18201140062

Status: Underutilized

Reasons: Secured Area

Bldg. 02474

Naval Air Weapons

China Lake CA 93555

Landholding Agency: Navy

Property Number: 77201140018

Status: Excess

Reasons: Extensive deterioration

Unsuitable Properties

Building

District of Columbia

West Heating Plant

1051 29th St. NW

Washington DC 20007

Landholding Agency: GSA

Property Number: 54201140006

Status: Underutilized

GSA Number: DC-497-1

Reasons: Contamination, Secured Area, Other—legal constraints Floodway

Florida

Bldgs. 1021 and 1037

125 Fighter Wing

Jacksonville FL 32218

Landholding Agency: Air Force

Property Number: 18201140010

Status: Unutilized

Reasons: Secured Area

Unsuitable Properties

Building

Florida

Bldg. 90343

320 Tully St

Hurlburt FL 32544

Landholding Agency: Air Force

Property Number: 18201140023

Status: Underutilized

Reasons: Secured Area, Extensive deterioration

3 Bldgs.

Hurlburt Field

Hurburt Field FL 32544

Landholding Agency: Air Force

Property Number: 18201140037

Status: Underutilized

Directions: 90034, 900345, 90330

Reasons: Extensive deterioration

Unsuitable Properties

Building

Georgia

Facility 1413

Savannah Hilton Intern'l Airport

Garden City GA 31408

Landholding Agency: Air Force

Property Number: 18201140015

Status: Unutilized

Reasons: Secured Area, Extensive deterioration

Bldgs. 1112 and 1114

Munitions Circle

Moody GA 31699

Landholding Agency: Air Force

Property Number: 18201140028

Status: Unutilized

Reasons: Secured Area, Extensive deterioration

4 Bldgs.

3274 Georgia St.

Moody GA 31699

Landholding Agency: Air Force

Property Number: 18201140029

Status: Underutilized

Directions: 894, 895, 896, 897

Reasons: Extensive deterioration

Unsuitable Properties

Building

Illinois

Bldg. 3138

Scott AFB

Scott IL 62225

Landholding Agency: Air Force

Property Number: 18201140050

Status: Unutilized

Comments: Beyond economical repair

Reasons: Extensive deterioration

Bldg. 906

Fermi Nat'l Accelerator Lab

Batavia IL 60510

Landholding Agency: Energy

Property Number: 41201140004

Status: Excess

Reasons: Extensive deterioration

2 Bldgs.

Naval Station

Great Lakes IL 60088

Landholding Agency: Navy

Property Number: 77201140011

Status: Unutilized

Directions: 128H and 129H

Reasons: Secured Area

Unsuitable Properties

Building

Kansas

20 Bldgs.

Riverside

Burlington KS 66839-8911

Landholding Agency: COE

Property Number: 31200340002

Status: Excess

Reasons: Extensive deterioration

6 Bldgs.

Santa Fe Trail/Outlet Channel

Council Grove KS 66846

Landholding Agency: COE

Property Number: 31200340004

Status: Excess

Reasons: Extensive deterioration

19 Toilets

John Redmond Lake

Burlington KS 66839

Landholding Agency: COE

Property Number: 31201040002

Status: Unutilized

Reasons: Extensive deterioration

Unsuitable Properties

Building

Kansas

2 Storage Sheds

Admin. Area-Milford Lake

Junction City KS 66441

Landholding Agency: COE

Property Number: 31201140006

Status: Unutilized

Reasons: Extensive deterioration

Maryland

Maryland Air Nat'l Guard

2701 Eastern Blvd.

Baltimore MD

Landholding Agency: Air Force

Property Number: 18201140006

Status: Excess

Directions: Facility 1130

Reasons: Secured Area

Unsuitable Properties

Building

Maryland

9 Bldgs.

Naval Support Activity S. Potomac

Indian Head MD 20640

Landholding Agency: Navy

Property Number: 77201140013

Status: Excess

Directions: 1313, 1490, 1575, 1739, 1740, 1746, 1820, 1875, T-10

Reasons: Extensive deterioration

17 Bldgs.

Naval Support Activity S. Potomac

Indian Head MD 20640

Landholding Agency: Navy

Property Number: 77201140014

Status: Excess

Directions: 1192, 1204, 1206, 1211, 1212, 1228, 1263, 1265, 1266, 1267, 1269, 1270, 1271, 1272, 1274, 1277, 1310

Reasons: Extensive deterioration

7 Bldgs.

Naval Support Activity S. Potomac

Indian Head MD 20640

Landholding Agency: Navy

Property Number: 77201140015

Status: Excess

Directions: 1011, 1173, 1162, 1161, 1159, 1148, 1044

Comments: PCB's in some bldgs.

Reasons: Contamination, Extensive deterioration

Unsuitable Properties

Building

Massachusetts

5 Bldgs.

Cape Cod Nat'l Seashore

Chatham MA 02633

Landholding Agency: Interior

Property Number: 61201140007

Status: Excess

Directions: 80439, 80440, 80564, 80441, 237834

Comments: the structural integrity is under imminent threat of storm and beach erosion

Reasons: Extensive deterioration, Floodway

Minnesota

HazMat Storage Bldg.

1201 Minnesota Ave.

Duluth MN 55802

Landholding Agency: Coast Guard

Property Number: 88201140002

Status: Excess

Directions: OV9 and OV10

Reasons: Secured Area

Unsuitable Properties

Building

Mississippi

Facilities 178 and 179

Thompson Field

Jackson MS 39232

Landholding Agency: Air Force

Property Number: 18201140003

Status: Unutilized

Reasons: Secured Area, Extensive deterioration

Storage, Liquid Oxygen

RPUID 455250

Meridian MS

Landholding Agency: Air Force

Property Number: 18201140004

Status: Unutilized

Reasons: Secured Area

Unsuitable Properties

Building

Missouri

Res Forces Opl Trng

Lambert-St. Louis

St. Louis MO 63044

Landholding Agency: Air Force

Property Number: 18201140007

Status: Unutilized

Directions: 18, 235, 131

Reasons: Secured Area, Extensive deterioration

Bldg. 34019

Orleans Trail Park

Stockton MO 65785

Landholding Agency: COE

Property Number: 31201140003

Status: Unutilized

Reasons: Extensive deterioration

Smithville Lake-82022

Camp Branch Privy

Smithville MO 64089

Landholding Agency: COE

Property Number: 31201140004

Status: Unutilized

Reasons: Extensive deterioration

Unsuitable Properties

Building

Missouri

Smithville Lake-39001

2619 NE 188th Street

Smithville MO 64089

Landholding Agency: COE

Property Number: 31201140005

Status: Unutilized

Reasons: Extensive deterioration

Montana

4 Bldgs.

Malmstrom AFB

Malmstrom MT 59402

Landholding Agency: Air Force

Property Number: 18201140039

Status: Unutilized

Directions: 630, 1869, 8001, 1874

Reasons: Secured Area

Unsuitable Properties

Building

New Jersey

Bldg. 3305

JBMDL

McGuire NJ 08641

Landholding Agency: Air Force

Property Number: 18201140011

Status: Excess

Reasons: Secured Area, Floodway, Within 2000 ft. of flammable or explosive material, Extensive deterioration

20 Bldgs.

Weapons Racks-JBMDL

Ft. Dix NJ 08640

Landholding Agency: Air Force

Property Number: 18201140042

Status: Unutilized

Directions: 9126, 9189, 9064E, 9079C, 9083, 9091D, 9099F,9817, 9835, 9853, 9856A, 9706, 9722, 9737, 9544, 9536, 9477, 9459B, 9460A, 9419A

Comments: no potential to meet criteria— beyond economical repair

Reasons: Extensive deterioration

16 Bldgs.

Joint Base McGuire Dix Lakehurst

Ft. Dix NJ 08640

Landholding Agency: Air Force

Property Number: 18201140043

Status: Unutilized

Directions: 9169A, 9176, 9066D, 9703, 9765, 3531, 3532, 3533, 3534, 3535, 3536, 9482, 9464, 8548, 9487, 9425

Comments: no potential to meet criteria- not economically feasible

Reasons: Extensive deterioration

Unsuitable Properties

Building

New Jersey

3 Bldgs.

Joint Base McGuire Dix Lakehurst

Ft. Dix NJ 08640

Landholding Agency: Air Force

Property Number: 18201140044

Status: Unutilized

Directions: 9066C, 9196, 9855A

Comments: no potential to meet criteria- not economically feasible

Reasons: Extensive deterioration

8 Bldgs.

Joint base McGuire Dix Lakehurst

Ft. Dix NJ 08640

Landholding Agency: Air Force

Property Number: 18201140045

Status: Unutilized

Directions: 9139, 9157, 9860, 9868, 9462, 9462A, 9467, 9427

Comments: no potential to meet criteria- not economically feasible

Reasons: Extensive deterioration

6 Bldgs.

Ammunition Hut

Ft. Dix NJ 08640

Landholding Agency: Air Force

Property Number: 18201140047

Status: Unutilized

Directions: 9151, 9856, 9867, 9483, 9465, 9211

Comments: no potential to meet criteria- not economically feasible

Reasons: Extensive deterioration

Unsuitable Properties

Building

New Mexico

Bldgs. 1054 and 1070

251 Air Guard Dr. SE

Kirtland NM 87117

Landholding Agency: Air Force

Property Number: 18201140005

Status: Excess

Reasons: Secured Area

Bldg. 1059

Holloman AFB

Holloman NM 88310

Landholding Agency: Air Force

Property Number: 18201140032

Status: Underutilized

Reasons: Within 2000 ft. of flammable or explosive material, Extensive deterioration, Secured Area

Bldg. 306

Holloman AFB

Holloman NM 88330

Landholding Agency: Air Force

Property Number: 18201140033

Status: Unutilized

Reasons: Extensive deterioration, Secured Area

Unsuitable Properties

Building

New Mexico

5 Bldgs.

Main Post

White Sands Missile NM 88002

Landholding Agency: Army

Property Number: 21201140048

Status: Unutilized

Directions: 34873, 34874, 34980, 23000, UNM1

Reasons: Extensive deterioration, Secured Area, Floodway

21 Bldgs.

Main Post

White Sands Missile NM 88002

Landholding Agency: Army

Property Number: 21201140049

Status: Unutilized

Directions: 1735, 1787A, 1871, 21236, 21560, 21562, 23456, 23460, 31725, 31754, 31766, 32280, 32970, 32971, 34180, 34181, 34182, 34183, 34186, 34870, 34871

Comments:

Reasons for unsuitability varies

Reasons: Secured Area, Extensive deterioration, Floodway, Within 2000 ft. of flammable or explosive material

Bldg. 00357

White Sands Missile Range

White Sands Missile NM 88002

Landholding Agency: Army

Property Number: 21201140059

Status: Unutilized

Reasons: Within 2000 ft. of flammable or explosive material, Floodway, Extensive deterioration

Unsuitable Properties

Building

New York

3 Bldgs.

AvFuels Circle

Niagara Falls NY 14304

Landholding Agency: Air Force

Property Number: 18201140014

Status: Unutilized

Directions:

919, 922, 2410

Reasons: Secured Area

Bldgs. 21 and 22

Air Nat'l Guard Road

Scotia NY 12302

Landholding Agency: Air Force

Property Number: 18201140016

Status: Unutilized

Reasons: Within 2000 ft. of flammable or explosive material

Unsuitable Properties

Building

North Dakota

Bldg. 370

1400 32nd Ave. N.

Fargo ND 58102

Landholding Agency: Air Force

Property Number: 18201140002

Status: Underutilized

Reasons: Secured Area

Ohio

6 Bldgs.

Wright-Patterson AFB

WPAFB OH 45433

Landholding Agency: Air Force

Property Number: 18201140048

Status: Underutilized

Directions: 20455, 20456, 20451, 31244, 34046, 34059

Reasons: Secured Area

Unsuitable Properties

Building

Ohio

2 Bldgs.

Wright-Patterson AFB

WPAFB OH 45433

Landholding Agency: Air Force

Property Number: 18201140049

Status: Unutilized

Directions: 31197 and 20329

Reasons: Secured Area

Oklahoma

12 Bldgs.

Tinker AFB

Tinker OK 73145

Landholding Agency: Air Force

Property Number: 18201140018

Status: Excess

Directions: 2126, 2211, 2212, 3108, 3212, 3215, 3535, 3772, 5801, 5802, 5803, 5897

Reasons: Secured Area

Unsuitable Properties

Building

Oklahoma

9 Bldgs.

Tinker AFB

Tinker OK 73145

Landholding Agency: Air Force

Property Number: 18201140046

Status: Excess

Directions: 5927, 7013, 7035, 7036, 7042, 208, 935, 1084, 2113

Comments: Reasons of unsuitability varies

Reasons: Secured Area, Floodway

Canadian Recreation Area

Canton Lake

Canton OK 73724

Landholding Agency: COE

Property Number: 31201140002

Status: Excess

Directions: 19 Bldgs.

Reasons: Extensive deterioration

Unsuitable Properties

Building

Tennessee

Bldgs. 214 and 219

240 Knapp Blvd.

Nashville TN 37217

Landholding Agency: Air Force

Property Number: 18201140013

Status: Unutilized

Reasons: Extensive deterioration, Secured Area

Texas

Port Arthur Resident Office

201 Pleasure Pier Blvd.

Port Arthur TX 77640

Landholding Agency: COE

Property Number: 31201140007

Status: Unutilized

Reasons: Extensive deterioration

Unsuitable Properties

Building

Utah

Bldg. 3002

Francis Peak ANG Station

Farmington UT 84025

Landholding Agency: Air Force

Property Number: 18201140012

Status: Excess

Reasons: Secured Area, Within 2000 ft. of flammable or explosive material

Vermont

4 Bldgs.

Burling IAP

Burling VT 05403

Landholding Agency: Air Force

Property Number: 18201140017

Status: Excess

Directions: 114, 115, 116, 117

Reasons: Secured Area, Within 2000 ft. of flammable or explosive material

Unsuitable Properties

Building

Virginia

Bldg. 254

Langley AFB

Langley VA 23665

Landholding Agency: Air Force

Property Number: 18201140030

Status: Underutilized

Reasons: Floodway, Secured Area

Bldgs. 244 and 253

Langley AFB

Langley VA 23665

Landholding Agency: Air Force

Property Number: 18201140031

Status: Underutilized

Reasons: Floodway, Secured Area

Bldg. 449

Joint Base Langley-Eustis

Ft. Eustis VA 23604

Landholding Agency: Air Force

Property Number: 18201140036

Status: Unutilized

Comments: Deteriorated beyond repair

Reasons: Extensive deterioration

Unsuitable Properties

Building

Virginia

Bldg. A2304

Ft. Pickett Training Ctr.

Blackstone VA 23824

Landholding Agency: Army

Property Number: 21201140054

Status: Unutilized

Reasons: Extensive deterioration, Within 2000 ft. of flammable or explosive material, Secured Area

2 Bldgs.

Ft. Pickett Training Ctr.

Blackstone VA 23824

Landholding Agency: Army

Property Number: 21201140056

Status: Unutilized

Directions: T2806 and T2805

Reasons: Within 2000 ft. of flammable or explosive material, Secured Area, Extensive deterioration

2 Bldgs.

Ft. Pickett Training Ctr.

Blackstone VA 23824

Landholding Agency: Army

Property Number: 21201140058

Status: Unutilized

Directions: T2802 and T2803

Reasons: Extensive deterioration, Within 2000 ft. of flammable or explosive material, Secured Area

Unsuitable Properties

Building

Washington

Bldgs. 455 and 456

Paine Field ANG Station

Everett WA 98204

Landholding Agency: Air Force

Property Number: 18201140009

Status: Excess

Reasons: Within airport runway clear zone, Secured Area

Corrosion Test Facility

NAS

Whidbey Island WA 98278

Landholding Agency: Navy

Property Number: 77201140010

Status: Unutilized

Reasons: Secured Area

[FR Doc. 2011-31977 Filed 12-15-11; 8:45 am]

BILLING CODE 4210-67-P